DEPARTMENT OF COMMERCE

Patent and Trademark Office

Electronic Publication of the Trademark Manual of Examining Procedure

AGENCY: Patent and Trademark Office, Commerce.

ACTION: Notice and request for comments.

SUMMARY: The United States Patent and Trademark Office (USPTO) announces its intention to disseminate all future editions of the Trademark Manual of Examining Procedure (TMEP) solely in electronic format.

DATES: Comments must be received on or before May 15, 2002, to ensure consideration.

ADDRESSES: Mail comments to the Commissioner for Trademarks, 2900 Crystal Drive, Arlington, Virginia 22202-3513, attention: Sharon Marsh; fax comments to (703) 872-9282, attention Sharon Marsh; or e-mail comments to eTMEP@uspto.gov.

Copies of all comments will be available for public inspection in Suite 10B10, South Tower Building, 10th floor, 2900 Crystal Drive, Arlington, Virginia 22202-3513, from 8:30 a.m. until 5 p.m., Monday through Friday, and will be posted on the www.uspto.gov Web site.

FOR FURTHER INFORMATION CONTACT: Sharon Marsh, Office of the Commissioner for Trademarks, (703) 308-8910, extension 145; or e-mail to sharon.marsh@uspto.gov.

SUPPLEMENTARY INFORMATION: The Trademark Manual of Examining Procedure (TMEP) is a reference work that sets forth the practices and procedures that are followed in connection with the prosecution of applications to register marks at the USPTO. In the past, the USPTO has provided the text of the TMEP to the Government Printing Office (GPO) for paper publication, distribution and sale. The USPTO, as well as private practitioners and others, bought copies of the TMEP from the GPO. The GPO also provided deposit copies to libraries through its Federal Depository Library Program.

Currently, the TMEP is available on the Internet at the USPTO Web site (http://www.uspto.gov), and is also provided in paper and DVD-ROM formats. The USPTO hereby announces its intention to disseminate all future editions of the TMEP solely in electronic form. Electronic distribution of the TMEP will enable the USPTO to provide more frequent updates of the TMEP, thereby benefiting external and internal customers. Additionally, electronic dissemination will result in substantial cost savings.

A Federal agency that disseminates information electronically must do so in a manner consistent with guidelines set forth in OMB Circular A-130. Dissemination of the TMEP solely in electronic format is consistent with those guidelines.

The guidelines require that “[a] change to electronic dissemination, as the sole means of disseminating the product, will not impose substantial acquisition or training costs on users, especially State and local governments and small business entities.” OMB Circular A-130, paragraph 8a(8)(e). Elimination of the paper version of the TMEP will not result in any significant acquisition costs. The Internet version of the TMEP can be accessed without any special equipment or software. Free access to the TMEP will continue to be provided on DVD-ROM and via the Internet at all eighty-seven Patent and Trademark Depository Library (PTDL) locations throughout the United States. Elimination of the paper version of the TMEP is unlikely to significantly increase the demand for computer capacity at the PTDLs or otherwise impose a burden on them. PTDLs routinely provide reference assistance and training in the access and use of this and other trademark information. However, the electronic version of the TMEP is highly user-friendly, and therefore, its use requires little or no training. In addition, commercial vendors currently provide the TMEP in paper form, and the USPTO anticipates that availability through this channel will continue.

The guidelines also provide that use of electronic media is proper if “[t]he agency develops and maintains the information electronically.” OMB Circular A-130, paragraph 8a(8)(a). The information set forth in the TMEP is both developed and maintained electronically.

A further requirement for use of electronic means to disseminate information is that the “[e]lectronic media or formats are practical and cost effective ways to provide public access to a large, highly detailed volume of information.” OMB Circular A-130, paragraph 8a(8)(b). Electronic dissemination of the TMEP is both cost-effective and practical. Non-electronic dissemination of the TMEP is fairly costly. For example, when the TMEP was last reissued, the USPTO expended over $20,000.00 in printing and binding costs. Electronic dissemination would eliminate these costs. Additionally, electronic dissemination is highly practical; such dissemination will allow the USPTO to issue updates whenever required by statutory, regulatory or policy changes. Additionally, the electronic format allows users to conduct electronic searches of the nineteen chapters and numerous subsections that comprise the TMEP.

The guidelines also require that “[t]he agency disseminates the product frequently.” OMB Circular A-130, paragraph 8a(8)(c). The TMEP is disseminated to users on demand. Currently, the product is updated every few years because of the burden involved in printing and disseminating a several-hundred-page paper document. Moving to electronic dissemination only will permit the USPTO to issue much more frequent updates and keep the TMEP current with changes in statute, regulation, and procedure.

The guidelines also provide that information should not be disseminated electronically unless “[t]he agency knows a substantial portion of users have ready access to the necessary information technology and training to use electronic information dissemination products.” OMB Circular A-130, paragraph 8a(8)(d). The USPTO is confident that a substantial proportion of its customers have ready access to the Internet, the forum on which the TMEP is posted, and that its customers have the necessary training to utilize the TMEP.

At this time, at least one publisher offers a paper TMEP in a slightly different format than that offered by the GPO. Thus, the USPTO is confident that, if there is a demand for a paper TMEP, an entrepreneurial publisher exists who will offer a paper publication.

Dated: April 9, 2002.
James E. Rogan,
Under Secretary of Commerce for Intellectual Property, Director, United States Patent and Trademark Office.

[FR Doc. 02-9017 Filed 4-12-02; 8:45 am]

BILLING CODE 3510-16-P